SECURITIES AND EXCHANGE COMMISSION

Issuer Delisting; Notice of Application To Withdraw From Listing and Registration; (Texas Biotechnology Corporation, Common Stock, $.005 Par Value, Per Share) File No. 1-12574

June 20, 2001.

Texas Biotechnology Corporation, a Delaware corporation (“Company”), has filed an application with the Securities and Exchange Commission (“Commission”), pursuant to section 12(d) of the Securities Exchange Act of 1934 (“Act”) ¹ and Rule 12d2-2(d) thereunder,² to withdraw its Common Stock, $.005 par value (“Security”), from listing and registration on the American Stock Exchange (“Amex”).

¹ 15 U.S.C. 78l(d).

² 17 CFR 240.12d2-2(d).

The Company represents that trading in the Security began on the Nasdaq National Market, and ceased concurrently on the Amex, at the opening of business on June 19, 2001. In making the decision to withdraw the Security from listing on the Exchange, the Company considered the liquidity to be provided by its inclusion on the Nasdaq National Market and the cost of maintaining the Amex listing.

The Company stated in its application that it has met the requirements of Amex Rule 18 by complying with all applicable laws in effect in the State of Delaware, in which it is incorporated, and with the Amex's rules governing an issuer's voluntary withdrawal of a security from listing and registration. The Company's application relates solely to the Security's withdrawal from l listing on the Amex and shall affect neither its approval for listing on the Nasdaq National Market nor its obligation to be registered under section 12(g) of the Act.³

³ 15 U.S.C. 78l(g).

Any interested person may, on or before July 10, 2001, submit by letter to the Secretary of the Securities and Exchange Commission, 450 Fifth Street, NW., Washington, DC 20549-0609, facts bearing upon whether the application has been made in accordance with the rules of the Amex and what terms, if any, should be imposed by the Commission for the protection of investors. The Commission, based on the information submitted to it, will issue an order granting the application after the date mentioned above, unless the Commission determines to order a hearing on the matter.

For the Commission, by the Division of Market Regulation, pursuant to delegated authority.⁴

⁴ 17 CFR 200.30-3(a)(1).
Jonathan G. Katz,
Secretary.

[FR Doc. 01-15979 Filed 6-25-01; 8:45 am]

BILLING CODE 8010-01-M